DEPARTMENT OF ENERGY

Federal Energy Regulatory Commission

Combined Notice of Filings #1

Take notice that the Commission received the following exempt wholesale generator filings:

Docket Numbers: EG24-144-000.

Applicants: Groton BESS 1 LLC.

Description: Groton BESS 1 LLC submits Notice of Self-Certification of Exempt Wholesale Generator Status.

Filed Date: 3/26/24.

Accession Number: 20240326-5200.

Comment Date: 5 p.m. ET 4/16/24.

Docket Numbers: EG24-145-000.

Applicants: Holden BESS 1 LLC.

Description: Holden BESS 1 LLC submits Notice of Self-Certification of Exempt Wholesale Generator Status.

Filed Date: 3/26/24.

Accession Number: 20240326-5202.

Comment Date: 5 p.m. ET 4/16/24.

Docket Numbers: EG24-146-000.

Applicants: Paxton BESS 1 LLC.

Description: Paxton BESS 1 LLC submits Notice of Self-Certification of Exempt Wholesale Generator Status.

Filed Date: 3/26/24.

Accession Number: 20240326-5203.

Comment Date: 5 p.m. ET 4/16/24.

Docket Numbers: EG24-147-000.

Applicants: Groton BESS 2 LLC.

Description: Groton BESS 2 LLC submits Notice of Self-Certification of Exempt Wholesale Generator Status.

Filed Date: 3/26/24.

Accession Number: 20240326-5205.

Comment Date: 5 p.m. ET 4/16/24.

Docket Numbers: EG24-148-000.

Applicants: Zier Solar, LLC.

Description: Zier Solar, LLC submits Notice of Self-Certification of Exempt Wholesale Generator Status.

Filed Date: 3/26/24.

Accession Number: 20240326-5229.

Comment Date: 5 p.m. ET 4/16/24.

Take notice that the Commission received the following electric rate filings:

Docket Numbers: ER19-2154-003.

Applicants: Sayreville Power, LLC.

Description: Compliance filing: Notice of Cancellation, Informational Filing, and Req. for Limited Tariff Waiver to be effective N/A.

Filed Date: 3/26/24.

Accession Number: 20240326-5189.

Comment Date: 5 p.m. ET 4/16/24.

Docket Numbers: ER24-266-001.

Applicants: Solar of Alamosa LLC.

Description: Refund Report: Refund Report to be effective N/A.

Filed Date: 3/26/24.

Accession Number: 20240326-5149.

Comment Date: 5 p.m. ET 4/16/24.

Docket Numbers: ER24-837-000.

Applicants: Union Electric Company.

Description: Refund Report: Refund Report to be effective N/A.

Filed Date: 3/26/24.

Accession Number: 20240326-5215.

Comment Date: 5 p.m. ET 4/16/24.

Docket Numbers: ER24-1615-000.

Applicants: PJM Interconnection, L.L.C.

Description: § 205(d) Rate Filing: Amended ISA; Service Agreement No. 6429; AC2-023 to be effective 5/27/2024.

Filed Date: 3/25/24.

Accession Number: 20240325-5255.

Comment Date: 5 p.m. ET 4/15/24.

Docket Numbers: ER24-1616-000.

Applicants: PJM Interconnection, L.L.C.

Description: Tariff Amendment: Notice of Cancellation of WMPA, SA No. 6847; AF2-102 re: withdrawal to be effective 5/27/2024.

Filed Date: 3/25/24.

Accession Number: 20240325-5296.

Comment Date: 5 p.m. ET 4/15/24.

Docket Numbers: ER24-1617-000.

Applicants: PJM Interconnection, L.L.C.

Description: § 205(d) Rate Filing: AMD ISA, Service Agreement No. 6480; AC2-154/AD2-060 to be effective 5/27/2024.

Filed Date: 3/26/24.

Accession Number: 20240326-5078.

Comment Date: 5 p.m. ET 4/16/24.

Docket Numbers: ER24-1618-000.

Applicants: Midcontinent Independent System Operator, Inc.

Description: § 205(d) Rate Filing: 2024-03-26_SA 1375 Termination of ATC-White Pine 3rd Rev GIA (J143) to be effective 5/26/2024.

Filed Date: 3/26/24.

Accession Number: 20240326-5091.

Comment Date: 5 p.m. ET 4/16/24.

Docket Numbers: ER24-1619-000.

Applicants: Midcontinent Independent System Operator, Inc.

Description: § 205(d) Rate Filing: 2024-03-26_SA 3679 Termination of OTP-EDF Renewables E&P (J1456) to be effective 1/11/2023.

Filed Date: 3/26/24.

Accession Number: 20240326-5095.

Comment Date: 5 p.m. ET 4/16/24.

Docket Numbers: ER24-1620-000.

Applicants: Midcontinent Independent System Operator, Inc.

Description: § 205(d) Rate Filing: 2024-03-26_SA 743 ATC-WPSC 3rd Rev. G-TIA to be effective 3/19/2024.

Filed Date: 3/26/24.

Accession Number: 20240326-5104.

Comment Date: 5 p.m. ET 4/16/24.

Docket Numbers: ER24-1621-000.

Applicants: PJM Interconnection, L.L.C.

Description: § 205(d) Rate Filing: Revisions to CTOA re: FE Service Co. TO CTOA Signature Date to be effective 5/26/2024.

Filed Date: 3/26/24.

Accession Number: 20240326-5107.

Comment Date: 5 p.m. ET 4/16/24.

Docket Numbers: ER24-1622-000.

Applicants: Michigan Electric Transmission Company, LLC.

Description: § 205(d) Rate Filing: Filing of a Contribution in Aid of Construction Agreement to be effective 5/26/2024.

Filed Date: 3/26/24.

Accession Number: 20240326-5169.

Comment Date: 5 p.m. ET 4/16/24.

Docket Numbers: ER24-1623-000.

Applicants: PJM Interconnection, L.L.C.

Description: § 205(d) Rate Filing: Amendment to WMPA, SA No. 5591; Queue No. AE2-054 (amend) to be effective 5/26/2024.

Filed Date: 3/26/24.

Accession Number: 20240326-5186.

Comment Date: 5 p.m. ET 4/16/24.

Docket Numbers: ER24-1624-000.

Applicants: Sayreville Power, LLC.

Description: Tariff Amendment: Notice of Cancellation, Informational Filing, and Req. for Limited Tariff Waiver to be effective 12/31/9998.

Filed Date: 3/26/24.

Accession Number: 20240326-5197.

Comment Date: 5 p.m. ET 4/16/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 26, 2024.
Debbie-Anne A. Reese,
Acting Secretary.

[FR Doc. 2024-06876 Filed 4-1-24; 8:45 am]

BILLING CODE 6717-01-P